DEPARTMENT OF ENERGY

Federal Energy Regulatory Commission

Combined Notice of Filings #2

Take notice that the Commission received the following electric corporate filings:

Docket Numbers: EC12-79-000.

Applicants: The Hartford Steam Company.

Description: Section 203 Application of The Hartford Steam Company.

Filed Date: 3/12/12.

Accession Number: 20120312-5179.

Comments Due: 5 p.m. ET 4/2/12.

Take notice that the Commission received the following electric rate filings:

Docket Numbers: ER91-569-049; ER10-1642-002; ER10-1541-001.

Applicants: Entergy Services, Inc., EWO Marketing, Inc., Entergy Power, LLC.

Description: On December 2, 2011 and December 19, 2011, Entergy Services, Inc. et al. filed Supplemental Information.

Filed Date: 12/2/11; 12/19/11.

Accession Number: 20111202-5184; 20111219-5226.

Comments Due: 5 p.m. ET 3/22/12.

Docket Numbers: ER12-1242-000.

Applicants: ISO New England Inc., New England Power Pool Participants Committee.

Description: Technical Improvements Relating to Automated Mitigation to be effective 12/31/9998.

Filed Date: 3/12/12.

Accession Number: 20120312-5107.

Comments Due: 5 p.m. ET 4/2/12.

Docket Numbers: ER12-1243-000.

Applicants: PJM Interconnection, L.L.C., Commonwealth Edison Company.

Description: ComEd submits PJM Service Agreement No. 3266 Between ComEd and Ameren to be effective 3/13/2012.

Filed Date: 3/12/12.

Accession Number: 20120312-5114.

Comments Due: 5 p.m. ET 4/2/12.

Take notice that the Commission received the following public utility holding company filings:

Docket Numbers: PH12-8-000.

Applicants: ArcLight Capital Holdings, LLC.

Description: Notice of Change in Facts of ArcLight Capital Holdings, LLC.

Filed Date: 3/12/12.

Accession Number: 20120312-5090.

Comments Due: 5 p.m. ET 4/2/12.

Take notice that the Commission received the following qualifying facility filings:

Docket Numbers: QF12-266-000.

Applicants: Roseburg Forest Products Company.

Description: Roseburg Forest Products Company submits FERC Form 556 Notice of Certification of Qualifying Facility Status for a Small Power Production or Cogeneration Facility.

Filed Date: 3/9/12.

Accession Number: 20120309-5200.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2012.
Nathaniel J. Davis, Sr.,
Deputy Secretary.

[FR Doc. 2012-6513 Filed 3-16-12; 8:45 am]

BILLING CODE 6717-01-P